DEPARTMENT OF AGRICULTURE

Food Safety and Inspection Service

[Docket No. FSIS-2006-0005]

National Advisory Committee on Meat and Poultry Inspection

AGENCY: Food Safety and Inspection Service (FSIS), USDA.

ACTION: Notice of public meeting.

SUMMARY: The National Advisory Committee on Meat and Poultry Inspection (NACMPI) will hold a public meeting on May 23-24, 2006 to discuss issues related to building a more robust risk-based inspection system. Subcommittees will also meet on May 23, 2006, to discuss issues covered during the full committee session.

DATES: The full Committee will hold a public meeting on Tuesday, May 23 and Wednesday, May 24, 2006, from 8:30 a.m. to 2 p.m. Subcommittees will hold open meetings on Tuesday, May 23, 2006, from 3 p.m. to 6 p.m.

ADDRESSES: All Committee meetings will take place in the conference room at the south end of the USDA cafeteria located in the Department of Agriculture South Building, 1400 Independence Avenue, SW., Washington, DC. A meeting agenda is available on the Internet at http://www.fsis.usda.gov/About_FSIS/NACMPI/index.asp.

FSIS invites interested persons to submit comments on this notice. Comments may be submitted by any of the following methods:

Federal eRulemaking Portal: This Web site provides the ability to type short comments directly into the comment field on this Web page or attach a file for lengthier comments. Go to http://www.regulations.gov and, in the “Search for Open Regulations” box, select “Food Safety and Inspection Service” from the agency drop-down menu, then click on “Submit.” In the Docket ID column, select the FDMS Docket Number FSIS-2006-0005 to submit or view public comments and to view supporting and related materials available electronically.

Mail, including floppy disks or CD-ROM's, and hand- or courier-delivered items: Send to Docket Clerk, U.S. Department of Agriculture, Food Safety and Inspection Service, FSIS Docket Room, 300 12th Street, SW., Room 102, Cotton Annex Building, Washington, DC 20250.

Electronic mail: fsis.regulationscomments@fsis.usda.gov.

All submissions received must include the Agency name and docket number FSIS-2006-0005.

All comments submitted in response to this notice, as well as research and background information used by FSIS in developing this document, will be posted to the regulations.gov Web site. The background information and comments also will be available for public inspection in the FSIS Docket Room at the address listed above between 8:30 a.m. and 4:30 p.m., Monday through Friday.

FOR FURTHER INFORMATION CONTACT: Robert Tynan for technical information at (202) 690-6522 or by e-mail robert.tynan@fsis.usda.gov and Sonya L. West for meeting information at (202) 690-1079, FAX (202) 690-6519, or by e-mail sonya.west@fsis.usda.gov. Persons requiring sign language interpreter or other special accommodations should notify Ms. West no later than May 12, 2006, at the numbers above or by e-mail.

SUPPLEMENTARY INFORMATION:

Background

On March 15, 2005, the Secretary of Agriculture renewed the charter for the NACMPI. The Committee provides advice and recommendations to the Secretary of Agriculture pertaining to the Federal and State meat and poultry inspection programs, pursuant to sections 7(c), 24, 205, 301(a)(3), (a)(4), and 301(c) of the Federal Meat Inspection Act (21 U.S.C. 607(c), 624, 645, 661(a)(3), 661 (a)(4), and 661(c)) and sections 5(a)(3), 5(a)(4), 5(c), 8(b); and 11(e) of the Poultry Products Inspection Act (21 U.S.C. 454(a)(3), 454(a)(4), 454(c), 457(b), and 460(e)).

The Administrator of FSIS is the chairperson of the Committee. Membership of the Committee is drawn from representatives of consumer groups, producers, processors and marketers from the meat, poultry and egg product industry, state government officials and academia. The current members of the NACMPI are: Dr. Gladys Bayse, Spelman College; Dr. David Carpenter, Southern Illinois University; Dr. James Denton, University of Arkansas; Mr. Darin Detwiler, Lake Washington School District; Mr. Kevin Elfering, Minnesota Department of Agriculture; Ms. Sandra Eskin, Attorney; Mr. Mike Finnegan, Montana Department of Agriculture; Mr. Michael Govro, Oregon Department of Agriculture; Dr. Andrea Grondahl, North Dakota Department of Agriculture; Dr. Joseph Harris, Southwest Meat Association; Dr. Jill Hollingsworth, Food Marketing Institute; Mr. Michael Kowalcyk, Safe Tables Our Priority; Dr. Elizabeth Krushinskie, U.S. Poultry & Egg Association; Dr. Irene Leech, Virginia Citizens Consumer Council; Mr. Charles Link, Cargill Meat Solutions; Dr. Catherine Logue, North Dakota State University; and Mr. Mark Schad, Schad Meats.

The Committee will break up into subcommittees to deliberate on specific issues and make recommendations to the whole Committee. The Committee makes recommendations to the Secretary of Agriculture. All interested parties are welcome to attend meetings and to submit written comments and suggestions concerning issues the Committee will review and discuss. These comments and suggestions should be submitted to Robert Tynan (see FOR FURTHER INFORMATION CONTACT). The comments and the official transcript of the meeting, when they become available, will be kept in the FSIS Docket Room at the address provided. All comments received in response to this notice will be considered part of the public record and will be available for viewing in the FSIS Docket Room between 8:30 a.m. and 4:30 p.m., Monday through Friday. Members of the public will be required to register before entering the meeting.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done in Washington, DC on May 8, 2006.
Barbara J. Masters,
Administrator.

[FR Doc. E6-7251 Filed 5-11-06; 8:45 am]

BILLING CODE 3410-DM-P